DEPARTMENT OF ENERGY

Federal Energy Regulatory Commission

[Docket No. RM01-5-000]

Electronic Tariff Filings; Notice of Revised Implementation Guide for Electronic Filing

In Order No. 714,¹ the Commission adopted regulations requiring tariff and tariff related filings to be made electronically starting April 1, 2010. Instructions on how to assemble an electronic filing are provided in the Implementation Guide for Electronic Filing of parts 35, 154, 284, 300, and 341 Tariff Filings (Implementation Guide), located on FERC's Home Page (https://www.ferc.gov/ferc-online/etariff). The Implementation Guide has been updated as of August 2023. The updated Implementation Guide will not be published in the Federal Register, but the Commission provides all interested persons an opportunity to view and/or print the updated Implementation Guide via the internet through FERC's Home Page (http://www.ferc.gov) using the eLibrary link. To access the document in eLibrary, type the above referenced docket number, excluding the last three digits, in the docket number field and follow other directions on the search page.

¹ Electronic Tariff Filings, Order No. 714, 73 FR 57,515 (Oct. 3, 2008), 124 FERC ¶ 61,270, FERC Stats. & Regs [Regulations Preambles] ¶ 31,276 (2008) (Sept. 19, 2008).

Take notice that the Implementation Guide has been revised as follows:

1. Updated FERC Form(s) expiration dates and public reporting burden information.²

² The FERC Form(s) expiration dates will be updated from time to time, but each update will not be noticed in the Federal Register.

2. Removed outdated software references.

3. Various updated instructions to comply with the directives in Order No. 884.³

³ Revised Filing & Reporting Requirements for Interstate Nat. Gas Co. Rate Schedules & Tariffs, Order No. 884, 181 FERC ¶ 61,121 (2022); re'hearing denied 182 FERC ¶ 61,144 (2023).

User assistance is available for eLibrary and other aspects of FERC's website during normal business hours. For assistance, please contact the Commission's Online Support at 1-866-208-3676 (toll free) or 202-502-6652 (email at FERCOnlineSupport@ferc.gov), or the Public Reference Room at 202-502-8371, TTY 202-502-8659. Email the Public Reference Room at public.referenceroom@ferc.gov.

Dated: August 10, 2023.
Debbie-Anne A. Reese,
Deputy Secretary.

[FR Doc. 2023-17629 Filed 8-16-23; 8:45 am]

BILLING CODE 6717-01-P